DEPARTMENT OF HOMELAND SECURITY

Coast Guard

[USCG-2004-19591]

Collection of Information Under Review by Office of Management and Budget (OMB): OMB Control Numbers: 1625-0005, 1625-0020, 1625-0029, 1625-0031, 1625-0085, and 1625-0096

AGENCY: Coast Guard, DHS.

ACTION: Request for comments.

SUMMARY: In compliance with the Paperwork Reduction Act of 1995, the Coast Guard intends to seek the approval of OMB for the renewal or revision of six Information Collection Requests (ICRs). The ICRs comprise (1) 1625-0005, Application and Permit to Handle Hazardous Materials; (2) 1625-0020, Security Zones, Regulated Navigation Areas, and Safety Zones; (3) 1625-0029, Self-propelled Liquefied Gas Vessels; (4) 1625-0031, Plan Approval and Records for Electrical Engineering Regulations—title 46 CFR subchapter J; (5) 1625-0085, Streamlined Inspection Program; and (6) 1625-0096, Report of Oil or Hazardous Substance Discharge, and Report of Suspicious Maritime Activity. Before submitting the ICRs to OMB, the Coast Guard is inviting comments on them as described below.

DATES: Comments must reach the Coast Guard on or before January 18, 2005.

ADDRESSES: To make sure that your comments and related material do not enter the docket [USCG-2004-19591] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is (202) 366-9329.

(3) By fax to the Docket Management Facility at (202) 493-2251.

(4) Electronically through the Web site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Ms. Bernice Parker-Jones), 2100 Second Street, SW., Washington, DC 20593-0001. The telephone number is (202) 267-2326.

FOR FURTHER INFORMATION CONTACT: Ms. Bernice Parker-Jones, Office of Information Management, 202-267-2326, for questions on these documents; or Ms. Andrea M. Jenkins, Program Manager, Docket Operations, (202) 366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act Policy” below.

Submitting comments: If you submit a comment, please include your name and address, identify the docket number for this request for comment [USCG-2004-19591], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Requests

1. Title: Application and Permit to Handle Hazardous Materials.

OMB Control Number: 1625-0005.

Summary: The information sought here ensures the safe handling of explosives and other hazardous materials around ports and aboard vessels.

Need: Title 33 United States Code 1225 authorizes the Coast Guard to establish standards for the handling, storage, and movement of hazardous materials on a vessel and/or waterfront facility. Title 33 Code of Federal Regulations (CFR) 126.17, and 49 CFR 176.100 and 176.415, prescribe the rules for facilities and vessels.

Respondents: Shipping agents and terminal operators that handle hazardous materials.

Frequency: On occasion.

Burden Estimate: The estimated burden is 145 hours a year.

2. Title: Security Zones, Regulated Navigation Areas, and Safety Zones.

OMB Control Number: 1625-0020.

Summary: The Coast Guard collects this information only when someone seeks a security zone, regulated navigation area, or safety zone. It uses the information to assess the need to establish one of these areas.

Need: The Coast Guard Captains of the Port (COTPs), under 33 U.S.C. 1226, 50 U.S.C. 191, and 33 CFR parts 6 and 165 , are authorized to designate security zones in the U.S. for as long as they are deemed necessary to prevent damage or injury. Title 33 U.S.C. 1223 authorizes the Coast Guard to prescribe rules to control vessel traffic in areas he or she deems hazardous because of reduced visibility, adverse weather, or vessel congestion. Title 33 U.S.C. 1225 authorizes the Coast Guard to establish rules to allow the designation of safety zones where access is limited to authorized persons, vehicles, or vessels to protect the public from hazardous situations.

Respondents: Federal, State, and local government agencies, vessels and facilities.

Frequency: On occasion.

Burden Estimate: The estimated burden is 194 hours a year.

3. Title: Self-propelled Liquefied Gas Vessels.

OMB Control Number: 1625-0029.

Summary: We need the information sought here to ensure compliance with our rules for the design and operation of liquefied gas carriers.

Need: Title 46 U.S.C. 3703 and 9101 authorizes the Coast Guard to establish regulations to protect life, property, and the environment from the hazards associated with the carriage of dangerous liquid cargo in bulk. Title 46 CFR part 154 prescribes these rules for the carriage of liquefied gases in bulk on self-propelled vessels by governing the design, construction, equipment, and operation of these vessels and the safety of personnel aboard them.

Respondents: Owners and operators of self-propelled vessels carrying liquefied gas.

Frequency: On occasion.

Burden Estimate: The estimated burden is 5,416 hours a year.

4. Title: Plan Approval and Records for Electrical Engineering Regulations—Title 46 CFR Subchapter J.

OMB Control Number: 1625-0031.

Summary: The information sought here is needed to ensure compliance with our rules on electrical engineering for the design and construction of U.S.-flag commercial vessels.

Need: Title 46 U.S.C. 3306 and 3703 authorize the Coast Guard to establish rules to promote the safety of life and property in commercial vessels. The electrical engineering rules appear at 46 CFR Subchapter J (parts 110 to 113).

Respondents: Owners, operators, and builders of vessels.

Frequency: On occasion.

Burden Estimate: The estimated burden is 1,151 hours a year.

5. Title: Streamlined Inspection Program.

OMB Control Number: 1625-0085.

Summary: The Coast Guard established an optional Streamlined Inspection Program (SIP) to provide owners and operators of U.S. vessels an alternative method of complying with inspection requirements of the Coast Guard.

Need: Owners and operators of vessels opting to participate in the program will maintain a vessel in compliance with a Company Action Plan (CAP) and Vessel Action Plan (VAP) and have their own personnel periodically perform many of the tests and examinations conducted by marine inspectors of the Coast Guard. The Coast Guard expects that participating vessels will continuously meet a higher level of safety and readiness throughout the inspection cycle.

Respondents: Owners and operators of vessels.

Frequency: On occasion. Application and plan development occur only once at enrollment. Updates and revisions are required to be made every 2 years. The Officer in Charge, Marine Inspection (OCMI) and the company will review the plans every 5 years.

Burden Estimate: The estimated burden is 2,138 hours a year.

6. Title: Report of Oil or Hazardous Substance Discharge; and Report of Suspicious Maritime Activity.

OMB Control Number: 1625-0096.

Type of Request: Revision of currently approved collection.

Summary: Any discharge of oil or a hazardous substance must be reported to the National Response Center (NRC) so that the pre-designated on-scene coordinator can be informed and appropriate spill mitigation action carried out. The NRC also receives suspicious maritime activity reports from the public and disseminates the info to appropriate entities.

Need: Titles 33 CFR 153.203, 40 CFR 263.30 and 264.56, and 49 CFR 171.15 mandate that the National Response Center be the central place to report all pollution spills by the public. Title 33 CFR 101.305 mandates that owners or operators of vessels or facilities required to have security plans report suspicious maritime activities that may result in a Transportation Security Incident (TSI) and breaches of security to the National Response Center. Voluntary reports are also accepted.

Respondents: Persons-in-charge of a vessel or an onshore or offshore facility; owners or operators of vessels or facilities required to have security plans; and the public.

Frequency: On occasion.

Burden Estimate: The estimated burden is 9,105 hours a year.

Dated: November 9, 2004.
David McLeish,
Acting Assistant Commandant for Command, Control, Communications, Computers and Information Technology.

[FR Doc. 04-25414 Filed 11-15-04; 8:45 am]

BILLING CODE 4910-15-P